DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning revisions to the collection of data contained in the Workforce Investment Act (WIA) National Emergency Grant (NEG) application procedures and project oversight and reporting requirements (OMB approval no. 1205-0439, expiring 5/30/03).

OMB granted emergency approval for the use of the forms (ETA 9103, 9014, and 9106) for Trade Health Insurance Coverage Assistance NEGs. Those approved forms have been revised to enable their use for Regular, Disaster and Trade-WIA Dual Enrollment NEGs and two proposed additional forms have been added to this request.

Attached is a copy of the proposed application procedures and project application review process, and project oversight and reporting requirements for the Workforce Investment Act (WIA)National Emergency Grants (NEG).

A copy of this information collection request, with applicable supporting documentation and application procedures, may be obtained by calling the Department of Labor. To obtain documentation contact Darrin King on 202-693-4129 or e-mail: king.darrin@doleta.gov.

DATES: Written comments must be submitted to the office listed in the addressee section below on or before July 15, 2003.

ADDRESSEE: Shirley M. Smith, Administrator, Office of National Response, Employment and Training Administration, United States Department of Labor, 200 Constitution Avenue, NW., Room N-5426, Washington, DC 20210, 202-693-3500 (this is not a toll-free number)

SUPPLEMENTARY INFORMATION:

I. Background

Authorized by section 173 of the Workforce Investment Act (WIA), as amended, National Emergency Grants (NEG) are discretionary grants awarded by the Secretary of Labor(the Secretary) intended to complement the resources and service capacity at the state and local area levels by providing supplemental funding for workforce development and employment services and other adjustment assistance for dislocated workers and other eligible individuals as defined in sections 101, 134 and 173 of WIA; sections 113, 114 and 203 of the Trade Act of 2002; and 20 CFR 671.140.

Funds are available for obligation by the Secretary under sections 132 and 173 of the WIA, and section 203 of the Trade Act of 2002. Applications will be accepted on an ongoing basis as the need for funds arises at the state and local level.

The provisions of WIA and the Regulations define four NEG project types:

• Regular, which encompasses plant closures, mass layoffs, and multiple layoffs in a single community.

• Disaster, which includes all eligible FEMA-declared natural and manmade disaster events.

• Trade-WIA Dual Enrollment, which provides funding to ensure that a full range of services is available to trade-impacted individuals eligible under the Trade Adjustment Assistance program provisions of the Trade Act of 2002.

• Trade Health Insurance Coverage Assistance, which provides specialized health coverage, support services, and income assistance to targeted individuals defined in the Trade Adjustment Assistance Reform Act of 2002.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Employment and Training Administration (ETA) of the U.S. Department of Labor (DOL) is announcing proposed application and reporting procedures to enable eligible entities to access funds for National Emergency Grant (NEG) programs under section 173 of the Workforce Investment Act (WIA), as amended. Applications will be accepted on an ongoing basis as the need for funds arises at the state and local level.

The application procedures, application review process, and project oversight and reporting requirements described in this notice are issued under the WIA regulations at 20 CFR 671.125.

Applications for NEG funds may be submitted at any time. The maximum allowable project performance periods are defined by the months remaining in the Program Year in which the grant award is made plus the subsequent two Program Years. The Program Year for these projects is the twelve month period July 1-June 30.

USDOL/ETA expects that the project performance period in any NEG application will reflect a time efficient approach to returning eligible individuals to appropriate employment consistent with the performance goals that apply to NEG projects.

Consistent with the Government Paperwork Elimination Act, the information collection including the application and the reporting form is fully in an electronic format. Electronic applications are intended to provide ease of completion as well as timely processing. The information in the grant application collection will provide the grant officer with the necessary information during the application review process in order to be able to make consistent and objective funding decisions based on the stated funding request evaluation criteria. The quarterly reports information collection will assure accountability and measure actual project performance to date.

USDOL/ETA is committed to making a decision to approve or disapprove all submitted applications within 15 working days from receipt of a complete and responsive application.

Type of Review: Revision.

Title: Workforce Investment Act: National Emergency Grants (NEG)—Application and Reporting Procedures.

OMB Number: 1205-0439.

Affected Public: State, local, or tribal government.

Burden Hours: 1,171.

Estimated Total Annualized Hour Burden
Reference | Expected total respondents* | Frequency | Expected total responses* | Avg. time per response | Expected burden* (hours)
SF 424 | 150 | 1 per project | 150 | 45 minutes | 113.0
Narrative Summary | 150 | 1 per project | 150 | 1.0 hour | 150.0
ETA 9103 | 150 | 1 per project | 150 | 90 minutes | 225.0
ETA 9105 | 75 | 1 per project | 75 | 30 minutes | 38
ETA 9106 | 150 | 1 per project | 150 | 1.0 hour | 150.0
ETA 9107 | 100 | 1 per project | 100 | 30 minutes | 50.0
Expenditure Status Report | 50 | 1 per project | 50 | 1.0 hour | 50.0
TAA Certification Report | 50 | 1 per project | 50 | 30 minutes | 25.0
Reports: ETA 9104 | 150 | quarterly per project | 600 | 30 minutes | 300.0
Grant Modifications | 140 | 1 per project | 140 | 30 minutes | 70.0
Total |  |  | 1615 |  | 1126
* Actual number will vary based on state and local needs.

Total Burden Cost (capital/startup): 0.

Total Burden Cost (operating/maintaining): 0.

Comments submitted in response to this comment request will be summarized and/or included in the request for Office of Management and Budget approval of the information collection request; they will also become a matter of public record.

Dated: May 12, 2003.
Emily Stover DeRocco,
Assistant Secretary, Employment and Training Administration.

ATTACHMENT

Workforce Investment Act: Application Procedures for National Emergency Grants

Overview

The Employment and Training Administration (ETA) of the U.S. Department of Labor (DOL) is announcing policies and procedures for accessing funds to implement National Emergency Grant (NEG) programs under section 173 of the Workforce Investment Act (WIA), as amended. Funds are available for obligation by the Secretary of Labor (the Secretary) under sections 132 and 173 of the WIA, and section 203 of the Trade Adjustment Assistance Reform Act of 2002. Applications will be accepted on an ongoing basis as the need for funds arises at the state and local level. Applicants are strongly encouraged to submit applications as early as possible following notice of an eligible dislocation event. Grant awards will be made only to the extent that funds remain available.

This application package provides information and procedures by which eligible entities can apply for National Emergency Grant funds to provide workforce development and employment services, and other adjustment assistance for dislocated workers and other eligible individuals as defined in sections 101, 134 and 173 of WIA; sections 113, 114 and 203 of the Trade Adjustment Assistance Reform Act of 2002; and 20 CFR 671.140. It consists of the following eight parts and two appendices:

• Part I provides background about the purpose and use of NEGs.

• Part II describes eligibility, including eligible circumstances for funding, eligible entities for grant awards, and eligible individuals for assistance.

• Part III identifies the policies governing administrative and project design requirements on NEGs.

• Part IV provides an overview of the application submission requirements for each type of NEG project;

• Part V identifies the elements in the application review process including the criteria that will be used to determine the appropriateness of the request for funds.

• Part VI describes alternative approaches to grant funding and the requirements associated with partial funding requests and actions.

• Part VII describes the follow-up planning, oversight and reporting requirements for awarded grants.

• Part VIII describes the grant modification process.

Appendix A contains copies of the required grant application forms. The forms are in an electronic format to facilitate easy completion and timely submission of the application. The Department seeks to establish a process that provides both timely submission of applications for funding, in relation to worker eligibility for assistance, and timely processing of such applications. The electronic formats have been developed to facilitate accomplishment of this objective.

Appendix B contains a directory of Regional Office contacts.

Applications for NEG funds may be submitted at any time. The maximum allowable project performance periods are defined by the months remaining in the Program Year in which the grant award is made plus the subsequent two Program Years. The Program Year for these projects is the 12 month period July 1—June 30. The Employment and Training Administration expects that the project performance period in any NEG application will reflect a time efficient approach to returning eligible individuals to appropriate employment consistent with the performance goals that apply to NEG projects.

The application procedures, application review process, and project oversight and reporting requirements described in this notice are issued under the WIA regulations at 20 CFR 671.125.

Applications must be filed electronically using the Web site http://testetareports.doleta.gov. To submit an application electronically, applicants will need to use a PIN # that has been assigned to them by ETA. A PIN # can be obtained by contacting the appropriate Regional Office.

For further information you may contact Shirley M. Smith, Administrator, Office of National Response at (202) 693-3501. (This is not a toll-free number.) A user's guide on preparing and submitting an application electronically and technical assistance on application requirements are available from Regional Offices of ETA and from the Office of National Response, Employment and Training Administration, U.S. Department of Labor, Room N-5426, 200 Constitution Avenue, NW., Washington, DC 20210.

Part I: Background

National Emergency Grants are discretionary awards by the Secretary of Labor and are intended to complement resources and service capacity at the State and local area levels by providing supplemental funding for workforce development and employment services and other adjustment assistance for dislocated workers and other eligible individuals, as defined in sections 101, 134 and 173 of WIA: sections 113, 114 and 203 of the Trade Adjustment Assistance Reform Act of 2002: and 20 CFR 671.140. To be effective, NEG funding actions must be timely in relation to the need for assistance. At the same time, effective use of NEG funds requires reasonable, informed estimates of the amount of funds needed to respond to eligible events AND responsive implementation plans for assisting the affected workers.

Responsive and responsible use of NEG funds requires a system-based collaboration between the State and local entities that are charged with providing assistance to workers affected by significant dislocation events, and the Federal agency that manages the national fund account. This collaboration must operate in a manner that “puts the right amount of money in the right place at the right time.” Inefficiencies in this collaboration are defined by both delayed funding actions (i.e., in relation to the time at which services are needed by eligible workers) and unexpended funds caused by inaccurate estimates of the amount of funding needed to respond to the dislocation event. Correcting these inefficiencies is a shared responsibility by the applicant/grantee and ETA.

The approach to NEG grant awards will be based on quick turnaround initial funding actions where the following can be demonstrated:

• There is an eligible circumstance for funding, with a group of workers who are currently eligible to receive assistance.

• An early intervention strategy has been initiated.*

• Per-participant expenditure levels are consistent with the formula program experience in the proposed project area.*

• There is a plan for timely enrollment of eligible workers into assistance and expenditure of requested funds.

• Overall project performance goals are consistent with the Secretary's goals for dislocated worker assistance.

• Other available funding sources are inadequate to fully fund the level of assistance needed.*

(Note: *These do not apply to Disaster and Trade Health Coverage Assistance projects. In addition, the early intervention requirement does not apply to Trade-WIA Dual Enrollment projects.)

ETA is committed to making a decision to approve or disapprove all submitted applications within 15 working days from receipt of a complete and responsive application. Note, however, that if the applicant chooses to submit an unrequested revision to a previously submitted application that is undergoing review, the 15-day processing time period starts over. Additionally, because experience with worker dislocations has consistently demonstrated that actual project requirements often vary from initial planning assumptions (i.e., on factors such as participation levels and intensity of reemployment assistance needs), most NEG requests will be funded incrementally.

Grant recipients will be expected to develop a more complete project operational plan, including project operator agreements and participant registration and assessment information, which should be available for review at the state or grantee level approximately 90 days after the grant award decision. This plan and project implementation experience to date will help verify the full amount of NEG funding needed to adequately respond to the dislocation event.

Part II

A. Eligible Circumstances for Funding

NEG funds may be used to provide assistance in the following circumstances:

• Plant closures and mass layoffs affecting 50 or more workers at a single site of employment;

• Closures and realignments of military installations;

• Multiple layoffs in a single local community that have significantly increased the total number of unemployed individuals in the community; *

• Emergencies or disasters that have been declared eligible for public assistance by the Federal Emergency Management Agency (FEMA); and

• Special assistance, including health coverage assistance, to trade-impacted workers and other individuals eligible under the Trade Adjustment Assistance Reform Act of 2002.

The Secretary may determine that other circumstances are appropriate for NEG funding.

(*In order to qualify under this criterion, the applicant must demonstrate that there is significant economic impact upon the community by indicating such conditions as:

—The “community” is a local area labor market or, if smaller, another geographical entity for which monthly unemployment information is available.

Note: This criterion cannot be applied at the state level although the state may be the grant applicant.

—The total layoffs in the community occurring during the reference period have resulted in an increase in the unemployment rate by at least one percentage point (e.g., from 4% to 5%).

(In order to assure the timely nature of these applications, the “Reference Period” should be a period of time of no less than three months and no greater than six months for which monthly unemployment information is publicly available. The months included in the “Reference Period” cannot overlap with any months included in the time period used in calculating the current program year's formula funding state allotments. The percentage point increase calculation will be based on the unemployment rate of the last month in the “Reference Period” and the month immediately prior to the first month in the “Reference Period.”)

—The request includes only those layoffs that have occurred within the reference period used for the unemployment rate computation or later.

—The level of formula funds usage, as described in part IV, section A.7, for both the local area and the state's reserve exceeds 50% in the first quarter of the program year, 70% in the second quarter and 85% in the last two quarters of the program year.)

The provisions of WIA and the Regulations define four NEG project types:

• Regular, which encompasses plant closures, mass layoffs, and multiple layoffs in a single community.

• Disaster, which includes all eligible FEMA-declared natural and manmade disaster events.

• Trade-WIA Dual Enrollment, which provides funding to ensure that a full range of services is available to individuals eligible through a certification under the provisions of the Trade Adjustment Assistance Reform Act of 2002.

• Trade Health Coverage Assistance, which provides special health coverage assistance through partial payment of health insurance premium costs under approved plans, support services, and income assistance to targeted individuals defined in the Trade Adjustment Assistance Reform Act of 2002.

B. Eligible Entities for Grant Awards

Entities that are eligible to receive a NEG grant for a Regular Project are:

• For Intrastate Projects:

—The designated state WIA program grantee agency.

—A Local Area Workforce Investment Board (or its fiscal agent).

—A designated organization receiving WIA funding through the Native American Program provision of the Act;

• For Interstate Projects:

—A consortium of states.

—A consortium of local Boards.

For interstate projects, one state must be designated to serve as the grant applicant and recipient. The Secretary may consider applications from other entities where it can be demonstrated that the entity will provide the most effective response to the applicable dislocation(s).

Because NEG grants are a source of supplemental funding to the existing dislocated worker service structure, DOL expects that states, as the entities responsible for ensuring the effective use of all dislocated worker funds within the State, will assume the role of grantee in most instances.

Eligible applicants for Disaster projects and projects to provide special assistance to trade-impacted workers are limited to States. In those cases where the State is the grantee but the project will operate in one or more designated local areas, the State may want to consult with applicable local area Workforce Investment Boards in the development of applications for NEG funds.

C. Eligible Individuals for Assistance

Individuals who are eligible for assistance vary by type of NEG project. The categories of eligible individuals are:

1. A dislocated worker: a. An individual who:

(1) Has been terminated or laid off, or has received a notice of termination or layoff, from employment;

(2) Is eligible for or has exhausted entitlement to unemployment compensation, or has been employed for a duration sufficient to demonstrate to appropriate staff of the One-Stop Center attachment to the workforce but is not eligible for unemployment compensation due to insufficient earnings or having performed services for an employer not covered under the state's unemployment compensation law; and

(3) Is unlikely to return to a previous industry or occupation.

b. An individual who:

(1) Has been terminated or laid off, or has received a notice of termination or layoff, from employment as a result of any permanent closure of, or any substantial layoff at, a plant, facility or enterprise; or

(2) Is employed at a facility at which the employer has made a general announcement that such facility will close within 180 days; or is employed at a facility at which the employer has made a general announcement that such facility will close. (Note: Eligibility for other than Core Services requires an announcement by the employer that the facility will close within 180 days.)

c. An individual who was self-employed but is unemployed as a result of general economic conditions in the community in which the individual resides or because of natural disasters.

d. An individual who has been providing unpaid services to family members in the home and who:

(1) Has been dependent on the income of another family member but is no longer supported by that income; and

(2) Is unemployed or underemployed and is experiencing difficulty in obtaining or upgrading employment.

2. A civilian employee of the Department of Defense or the Department of Energy employed at a military installation that is being closed, or that will undergo realignment, within the next 24 months.

3. An individual who is employed in a nonmanagerial position with a Department of Defense contractor, and who is determined to be at risk of termination from employment as a result of reductions in defense expenditures, and whose employer is converting operations from defense to non-defense applications in order to prevent worker layoffs.

4. A member of the Armed Forces who:

a. Was on active duty or full-time National Guard duty;

b. Is involuntarily separated from active duty or full-time National Guard duty, or is separated from active duty or full-time National Guard duty pursuant to a special separation benefits program or voluntary separation incentive program;

c. Is not entitled to retired or retained pay incident to the separation described in (b); and

d. Applies for employment and training assistance before the end of the 180 day period beginning on the date of separation.

5. An individual who is temporarily or permanently laid off as a consequence of a disaster event qualifying for public assistance through a FEMA declaration.

6. An individual who is long-term unemployed.

7. For Trade-WIA Dual Enrollment Projects, an individual covered by a certification under the Trade Adjustment Assistance Reform Act of 2002 who also qualifies as an eligible dislocated worker.

8. For Trade Health Coverage Assistance Projects:

a. An individual who is eligible for a trade readjustment allowance (TRA) under the TAA program, or would be eligible for TRA except that he/she has not yet exhausted his/her unemployment insurance (UI) benefits;

b. A qualified family member of an eligible individual under “a”;

c. Recipients of pension benefits through the Pension Benefit Guaranty Corporation.

Not all of these groups are eligible for each type of NEG project assistance. The following table summarizes the relationship between eligible individuals and eligible NEG project types.

| Regular | Disaster | Trade Adjustment Assistance: Dual enrollment | Trade Adjustment Assistance: Health coverage & related
Dislocated Worker | X | X |  |
DoD/DoE Civilian Employee | X |  |  |
DoD Contractor Employee | X |  |  |
Member of Armed Forces | X |  |  |
Laid off as result of Disaster |  | X |  |
Long-term Unemployed |  | X |  |
Trade-impacted |  |  | X | X
Qualified Dependent of Eligible Trade-Impacted Worker |  |  |  | X
PBGC Pension Recipient |  |  |  | X

Part III: Administrative and Project Design Requirements

A. General

Grantee organizations, administrative entities, project operators and service providers are subject to the WIA law, regulations, grant application instructions, the terms and conditions of the grant and any subsequent modifications, and to all other applicable Federal laws (including provisions in Federal appropriations laws). Since eligible applicants are generally limited to State, Native American tribal entities, and local Boards that are established through WIA, NEG grantees will be subject to all administrative system requirements that apply to the use of WIA formula funds for dislocated workers, except as otherwise provided in these instructions. Any other entity that seeks to apply for NEG funds will be required to demonstrate its ability to meet these same administrative system requirements.

B. Cost Limitations

Administrative cost limitations shall apply to all NEG grant awards. Cost limitations shall apply to actual expenditures. In general, a 10 percent (10%) limit will apply to all NEG projects.

On projects where the state is the grantee, but services are being provided through one or more local area project operators, the 10 percent cost limit will apply to local area expenditures. In these grants the state may retain an additional amount to perform state-level management and oversight functions in support of the grant. This amount should not exceed 1.5 percent of the total local area funding.

Any costs associated with administering a system of needs-related or health coverage payments must be separately identified in the application budget and justified in the narrative.

Although administrative cost limits on NEG projects are subject to negotiation with the Grant Officer, ETA expects that most projects will be able to be implemented within the above cited limits. Any request for a higher limit will have to be clearly and fully justified in terms of unusual project operating circumstances. Applicants should recognize that any such request will have to be negotiated with the Grant Officer and will delay the timing of the funding action.

C. Indirect Costs

If an indirect cost rate is applied in calculating administrative costs, the applicant must include information from the most recent approval document that identifies the approved indirect cost rate and base, the cognizant approval agency, and the date of the approval. Generally, indirect costs will only be approved at the grantee level. If an application includes indirect costs at the project operator level, the grantee will be responsible for verifying the appropriate documentation to support the costs.

D. Early Intervention

For Regular projects, all NEG applications are expected to be the result of an early intervention process that has been activated through the State's Rapid Response system. As appropriate, the early intervention process may include the use of formula funds to initiate core and intensive, and even training services. In cases where formula funds have been used to provide services (excluding Rapid Response) to the eligible target group prior to grant award and the availability of formula funds in the state is limited, the Grant Officer may authorize the use of grant funds to reimburse the cost of such services. However, approval for using grant funds for such costs will be limited to costs incurred within the 90-day period preceding the date of receipt of the application. For Regular projects, ETA expects that applications for NEG funding will be submitted within 90 days of the dislocation event(s) or the date on which the target group of workers included in the application become eligible for assistance.

In general, the initiation of early intervention activities will be a pre-condition for the award of NEG funds for Regular projects. If early intervention through Rapid Response has not been feasible, the applicant must document the circumstances that prevented initiation of early intervention in the application.

E. Allowable Activities and Services

NEG funds may be used to provide services of the type described in section 134(d)(2), (3), (4) and (e)(2) and (3) of WIA. For Disaster projects, NEG funds may also be used for temporary employment assistance to provide food, clothing, shelter and related humanitarian assistance; and to perform demolition, cleaning, repair, renovation and reconstruction of damaged and destroyed structures, facilities and lands located within the designated disaster area. For Trade Health Coverage Assistance projects, funds may also be used for the activities and services described in WIA sections 173 (f) and (g). Additional guidance on the use of funds for these activities and services will be provided through Training and Employment Guidance Letters (TEGLs).

F. Project Design and Service Operations

Project operations should be consistent with the established policies and procedures of the State and/or local Board(s) in the area in which the project is to operate. ETA expects that such policies and procedures are flexible enough to respond to the needs of any eligible dislocated worker, including those who are eligible for assistance through NEG funding. Where variations may be appropriate to respond to the needs of special populations (e.g., limited English speaking) who comprise the target group, these will have to be explained and justified in the application.

G. Temporary Employment (Disaster Projects ONLY)

Temporary job creation is limited to public and private non-profit agencies. An individual participant on a Disaster project may be employed for a maximum of six months, or 1,040 hours, whichever is longer. The maximum level of wages paid to a participant is limited to $12,000 excluding the cost of fringe benefits. Fringe benefits should be paid in accordance with the policies of the employer of record for temporarily employed workers. If a higher wage level for some participants is critical to the success of clean-up efforts on the project, the applicant may request a higher limit from the Grant Officer.

H. Integration With Other Resources

The services provided to eligible workers in the large majority of Regular and Trade Adjustment Assistance projects should be financed from multiple sources, including WIA formula, One-Stop partner and other public and private (e.g., employer) funds. In addition, grantees will be expected to make a maximum effort to assist each project participant to apply and qualify for available sources of financial assistance, consistent with the provisions of § 663.320 of the WIA Regulations.

I. Coordination With Trade Act Funds

ETA expects that states will have in place efficient procedures for dual enrollment of eligible workers in both the TAA and WIA programs. Receipt of NEG funds to provide services to TAA eligible workers will be predicated on the existence of such procedures.

J. Performance Outcomes

ETA expects that NEG-funded projects will achieve quality employment and earnings outcomes for the individuals who are served. Each NEG project will be required to achieve performance outcomes for eligible workers that are at least as high as the higher of the corresponding goals set by the Secretary and those negotiated with the applicable state or local Board.

Employment-related performance measures will not apply to Trade Health Coverage Assistance projects.

K. Project Management

ETA expects that NEG-funded projects will be organized to provide the most responsive services from the perspective of the customer (i.e., the dislocated worker). There may be instances in which a project will operate in multiple local workforce areas. Except in the limited cases where projects may span large areas of the state and involve workers from widely dispersed areas and different labor market conditions, the projects should be designed and managed to operate under a consistent set of service policies and procedures that are agreed to by all of the local Boards involved.

Where a single project will operate in multiple local areas, ETA will award the grant to the state or to one of the local Boards that has been designated as grant recipient through an agreement executed by all of the local Boards involved. The grant will be structured to operate on a full service area basis, and the grantee will have full authority to move funds between designated project operators consistent with where eligible workers are seeking services. In these cases, the service policies and procedures applying to the project can be those of the state, of the local Board designated as grant recipient, or ones jointly developed by all of the local Boards as part of the agreement. This principle will also apply to projects that will operate on an interstate basis, that is, an agreement will have to be executed among all of the involved states and the agreement will need to designate one of the states to be the grant recipient, as well as identify the service policies and procedures that will apply.

Part IV: Application Submission Requirements

To be considered for funding, an application must include the information identified in this section. The information requirements are organized by type of NEG project since the requirements vary by project type.

A. Regular Projects

1. Completed and signed SF 424-Application for Federal Assistance. This form is the required application for Federal funds. The authorized signatory of the applicant will be issued a unique Personal Identification Number (PIN). The entry of this PIN on the SF 424 constitutes the authorized signature.

2. Project Synopsis Form (ETA 9106). This form summarizes key aspects of the proposed project such as project type, type of eligible event, key contact information, planned number of participants, performance measures, and explanation of why requested funds are needed.

3. Employer Data Form (ETA 9105). This form provides employer and dislocation site-specific information needed to validate the eligibility of the dislocation event(s) and the target group of workers for NEG assistance. Information includes name and location of employer, date and type of worker notification, date(s) of layoff and number of workers affected, date(s) and types of Rapid Response activities.

4. Project Operator Data Form (ETA 9107). This form includes key contact and project scope information (e.g., number of participants, total budget, service area) for each project operator. This form must be completed and submitted only to the degree that Project Operators have been identified at the time of application. This information should be submitted as Project Operators are identified and agreements executed. However, if the applicant is submitting a full funding request, it is expected that Project Operators will have been identified and the contact information on the form should be completed.

5. Planning Form (ETA 9103). This form provides cumulative quarterly estimates on project scope (e.g., number of participants, exits), design (e.g., mix of activities), and budget (e.g., costs by type of activity, administrative costs).

6. Narrative Summary. This form allows the applicant to provide any explanations/justifications needed for entries in the above forms. Narrative explanations are required in the following instances:

—A notification was made by the employer but no Rapid Response activities have been initiated.

—Some of the affected layoffs have occurred more than 4 months prior to the date of submission of the application.

—The application is being submitted to address “community impact layoffs.” The narrative must provide specific information in relation to the specific requirements for meeting this criterion (see definition in part II.A of these guidelines).

—The number of planned participants is greater than 50% of the total number of affected workers.

—Either the planned entered employment rate or the planned average wage replacement rate is less than the higher of the corresponding goals set by the Secretary and those negotiated with the applicable State or local Board.

—The planned cost per participant on the project is greater than the cost per participant in the applicant's formula program for dislocated workers.

—There are participants receiving NRPs, which requires explaining how the planned number of recipients and the NRP cost per participant were determined.

—Indirect costs are included in the budget, which requires identifying the following: cognizant approval agency, approved cost rate and base, and date of approval.

—“Other” costs—at either the State or local level—are included in the budget, which requires identifying the specific cost items and amounts.

—Administrative costs related to NRPs are included in the budget, which requires explaining how the administrative cost estimate was derived (i.e., based on number of check payments and check processing costs).

—Administrative expenses at the local/project level, excluding NRPs, are greater than 10% of total expenses.

—In projects where the state is the grantee but the project is implemented through local project operators, State-level management and oversight expenses are greater than 1.5% of total local expenses.

The applicant is free to include narrative explanations of other special factors, but the narrative should not exceed five pages.

7. Current Obligation and Expenditure Status Report. The applicant must include, as an attachment to its grant submission, information which presents the current status (i.e., through the most recent month for which information is available) of accrued expenditures and obligations, both for available WIA formula funds in the current Program Year and for each active NEG grant in the applicant's service area. The status report must address the following factors:

—Total available funds;

—Total accrued expenditures;

—Total unexpended but obligated funds in ITAs for currently enrolled participants;

—Amount for this PY;

—Amount for next PY;

—Total unexpended but obligated funds for fixed staff costs;

—Total unexpended but obligated funds for fixed facilities costs;

—Total unexpended but obligated funds for other (identify) fixed costs.

For formula funds, available funds and obligations for fixed costs are for the current Program Year. For active NEG projects, the available funds and obligations for fixed costs are for the approved budget and project period.

B. Disaster Projects

1. Completed and signed SF 424-Application for Federal Assistance. This form is the required application for Federal funds. The authorized signatory of the applicant will be issued a unique Personal Identification Number (PIN). The entry of this PIN on the SF 424 constitutes the authorized signature.

2. Project Synopsis Form (ETA 9106). This form summarizes key aspects of the proposed project such as project type, type of eligible event, key contact information, types of eligible individuals to be included in the target group for the project, planned number of participants, performance measures, and contact information. This form includes an entry for the FEMA declaration that qualifies the event as eligible for NEG assistance. This may not be available at the time the application is submitted and, if not, will be entered by DOL/ETA.

3. Project Operator Data Form (ETA 9105). This form includes key contact and project scope information (e.g., number of participants, total budget, service area) for each project operator. This form must be completed and submitted only to the degree that Project Operators have been identified at the time of application. This information should be submitted as Project Operators are identified and agreements executed. However, if the applicant is submitting a full funding request, it is expected that Project Operators will have been identified and the contact information on the form should be completed.

4. Planning Form (ETA 9103). This form provides cumulative quarterly estimates on project scope (e.g., number of participants, exits), design (e.g., mix of activities), and budget (e.g., costs by type of activity, administrative costs).

5. Narrative Summary. This form allows the applicant to provide any explanations/justifications needed for entries on the above forms. Narrative explanations will be required in the following instances:

—Dislocated workers and long-term unemployed are included in the target group, but no workforce development services are proposed beyond temporary job creation.

—Either the planned entered employment rate or the planned average wage replacement rate for participants receiving workforce development services is less than the higher of the corresponding goals set by the Secretary and those negotiated with the applicable state or local Board.

—There are participants receiving NRPs, which requires explaining how the planned number of recipients and the NRP cost per participant were determined.

—Indirect costs are included in the budget, which requires identifying the following: cognizant approval agency, approved cost rate and base, and date of approval.

—“Other” costs—at either the State or local level—are included in the budget, which requires identifying the specific cost items and amounts.

—Administrative costs related to NRPs are included in the budget, which requires explaining how the administrative cost estimate was derived (i.e., based on number of check payments and check processing costs).

—Administrative expenses excluding NRPs are greater than 10% of total expenses.

—In projects where the state is the grantee but the project is implemented through local project operators, State-level management and oversight expenses are greater than 1.5% of total local expenses.

The applicant is free to include narrative explanations of other special factors, but the narrative should not exceed five pages.

C. Trade Adjustment Assistance Projects

These projects are limited to assistance to eligible individuals as identified in the Trade Adjustment Assistance Reform Act of 2002. NEG funds can be used in two ways:

—To provide funding to ensure that a full range of services is available to trade-impacted individuals eligible under the provisions of the Trade Adjustment Assistance Reform Act of 2002.

—To pay for costs of health insurance premiums, supportive services (e.g., transportation, child care, dependent care), and income assistance (e.g., needs-related payments) for eligible individuals under the provisions of section 173(g) of the Workforce Investment Act, as amended by the Trade Adjustment Assistance Reform Act of 2002.

Each of these uses is supported by a separate appropriation. Therefore, a separate NEG application will be required for each use for which an applicant is seeking funds. Instructions for applying for NEG funds to pay the costs of allowable system-building activities under section 173(f) have been separately issued.

1. Trade-WIA Dual Enrollment Project

a. Completed and signed SF 424-Application for Federal Assistance. This form is the required application for Federal funds. The authorized signatory of the applicant will be issued a unique Personal Identification Number (PIN). The entry of this PIN on the SF 424 constitutes authorized signature.

b. Project Synopsis Form (ETA 9106). This form summarizes key aspects of the proposed project such as project type, key contact information, planned number of participants, performance measures, and explanation of why the requested funds are needed.

c. Project Operator Data Form (ETA 9107). This form includes key contact and project scope information (e.g., number of participants, total budget, service area) for each project operator. This form must be completed and submitted only to the degree that Project Operators have been identified at the time of application. This information should be submitted as Project Operators are identified and agreements executed. However, if the applicant is submitting a full funding request, it is expected that Project Operators will have been identified and the contact information on the form should be completed.

d. Planning Form (ETA 9103). This form provides cumulative quarterly estimates on project scope (e.g., number of participants, exits), design (e.g., mix of activities), and budget (e.g., costs by type of activity, administrative costs).

e. Narrative Summary. This form allows the applicant to provide any explanations/justifications needed for entries on the above forms. Narrative explanations will be required in the following instances:

—Either the planned entered employment rate or the planned average wage replacement rate is less than the higher of the corresponding goals set by the Secretary and those negotiated with the applicable state or local Board-Indirect costs are included in the budget, which requires identifying the following: cognizant approval agency, approved cost rate and base, and date of approval.

—“Other Program” costs—at either the state or local level—are included in the budget, which requires identifying the specific cost items and amounts.

—Administrative expenses are greater than 10% of total expenses.

—In projects where the state is the grantee but the project is implemented through local project operators, State-level management and oversight expenses are greater than 1.5% of total local expenses.

The applicant is free to include narrative explanations of other special factors, but the narrative should not exceed five pages.

f. TAA Certification Report. The applicant must include, as an attachment to its grant submission, information which identifies by employer the TAA Trade Certification numbers and the number of workers covered in the certifications. In cases where a petition has been filed but the certification is pending, identify the TAA Trade Petition number, the date the petition was filed, and the number of workers covered in the petition.

g. Current Obligation and Expenditure Status Report. The applicant must include, as an attachment to its grant submission, information which presents the current status (i.e., through the most recent month for which information is available) of accrued expenditures and obligations, for both available WIA formula and Trade Act funds in the current Program Year. The status report must address the following factors:

—Total available funds;

—Total accrued expenditures;

—Total unexpended but obligated funds in ITAs for currently enrolled participants;

—Amount for this PY;

—Amount for next PY;

—Total unexpended but obligated funds for fixed staff costs;

—Total unexpended but obligated funds for fixed facilities costs;

—Total unexpended but obligated funds for other (identify) fixed costs.

For formula funds, available funds and obligations for fixed costs are for the current Program Year. For active NEG projects, the available funds and obligations for fixed costs are for the approved budget and project period.

2. Trade Health Coverage Assistance

a. Completed and signed SF 424—Application for Federal Assistance. This form is the required application for Federal funds. The authorized signatory of the applicant will be issued a unique Personal Identification Number (PIN). The entry of this PIN on the SF 424 constitutes the authorized signature.

b. Project Synopsis form (ETA 9106). This form summarizes key aspects of the proposed project such as project type, planned number of participants, and contact information. It also includes identification of the types of health insurance coverage options that will be available to project participants.

c. Planning Form (ETA 9103). This form provides cumulative quarterly estimates on project scope (e.g., number of participants, exits), design (e.g., mix of services), and budget (e.g., costs by type of activity, administrative costs).

d. Narrative Summary. Describe steps taken to consult and coordinate with appropriate state executive agencies and other appropriate parties in order to ensure that the use of NEG funds to provide health coverage assistance to eligible individuals will be consistent with the policies and procedures of those agencies. A narrative explanation must also be provided in cases where one or more of the following are reflected in the project plan:

—There are participants receiving NRPs, which requires explaining how the planned number of recipients and the NRP cost per participant were determined.

—Indirect costs are included in the budget, which requires identifying the following: Cognizant approval agency, approved cost rate and base, and date of approval.

—“Other” costs are included in the budget, which requires identifying the specific cost items and amounts.

—Administrative costs related to processing payments for qualified health insurance coverage and NRPs are included in the budget, which requires explaining how the administrative cost estimate was derived (i.e., based on number of check payments and check processing costs).

—Administrative expenses excluding NRPs and health insurance coverage assistance are greater than 10% of total expenses.

The applicant is free to include narrative explanations of other special factors, but the narrative should not exceed five pages.

e. TAA Certification Report. The applicant must include, as an attachment to its grant submission, information that identifies by employer the TAA Trade Certification numbers and the number of workers covered in the certifications. In cases where a petition has been filed and certification is pending, identify the TAA Trade Petition number, the date the petition was filed, and the number of workers covered in the petition.

Part V: Application Review Process

To be considered for funding, an application must demonstrate that the proposed project meets the purpose of and is consistent with the Act and Regulations and provides all of the information required by these guidelines. Applications that are not completely in accordance with the requirements or do not contain all required submission forms will not be considered as submitted and will not be evaluated for funding until all required information and documentation is provided. Complete applications will be evaluated for responsiveness to the criteria identified in this part. Just as with the submission requirements, the criteria are generally similar for each type of NEG project but there are variations. The specific criteria by type of project are itemized in the following sections.

A. Regular Projects

1. Eligibility: To ensure that NEG funds are only awarded to eligible dislocation events and where there is a verifiable target group that is both eligible and in need of assistance.

a. Information demonstrates that the dislocation events cited are eligible for NEG funding.

b. Information demonstrates that identified workers in the target group are currently eligible for assistance.

c. Information indicates that the affected workers are still in need of assistance.

2. Early Intervention: To ensure that required Rapid Response is being implemented.

a. Information indicates that timely and appropriate Rapid Response actions have been taken.

b. Information indicates that some effort has been made to contact affected workers and/or their representatives.

3. Reasonableness of Proposed Services and Costs: To ensure that NEG projects are designed and operated in accordance with the Federal requirements and the State and local policies that apply to formula-funded dislocated worker programs in the proposed project area, OR, if different, that they are fully justified in terms of target group and reemployment barriers.

a. The planned average cost per participant for the project is within a reasonable range of the state's actual average cost per participant reported for the prior Program Year.

b. The percentage of planned participants receiving needs-related payments (NRPs) in the project is justified in terms of formula program experience or target group characteristics and reemployment barriers.

c. The indirect costs are justified by identifying: (1) The approved indirect cost rate and base; (2) the cognizant approval agency; (3) the date of the approval.

d. “Other” expenditures that are included in the budget—at either the State or local level -are identified and justified in the narrative.

e. The ratio of planned participants to affected workers is reasonable in light of prior experience with NEG projects and with the results of Rapid Response/early intervention activities.

f. Total administrative costs are within the cost limitations at both the state and local project levels, OR are explained and justified.

4. Timeliness of Assistance: To ensure that project implementation will reflect timely assistance to affected workers, consistent with the initiation of Rapid Response and other early intervention activities; and to ensure that the rate of expenditures is consistent with rate of on-board participants by service type (e.g., core/intensive, training).

a. All planned participants are enrolled in services in a timely manner and consistent with availability of funds to complete services.

b. Rates of expenditure for Core/Intensive and Supportive Services are consistent with the rates of enrollment in those services quarter-to-quarter.

c. Rates of expenditure for Training Services and NRPs (if applicable) are consistent with the rates of enrollment in those services quarter-to-quarter.

5. Adequacy of Planned Performance: To verify that planned performance on NEG projects is appropriate.

a. The planned levels of performance on each applicable performance measure equal to or greater than the higher of the negotiated state goal or the Secretary's goal. OR

b. The application includes specific employment barriers-related information on the project's target group to justify a lower level of performance.

6. Need for Funds: To ensure that other funds are not available and/or have not been committed to meet the needs of the workers covered in the application.

a. No other funding exists which provides the same services to the same target group.

b. Available information on expenditures of other dislocated worker funds in the state indicates the need for the requested funds.

B. Disaster Projects

1. Eligibility: To ensure that NEG funds are only awarded to eligible dislocation events and where there is a verifiable target group that is both eligible and in need of assistance.

a. FEMA has issued a public declaration that the event is eligible for public assistance.

2. Reasonableness of Proposed Services and Costs: To ensure that NEG projects are designed and operated in accordance with the Federal requirements and the State and local policies that apply to formula-funded dislocated worker programs in the proposed project area, OR, if different, that they are fully justified in terms of target group and reemployment barriers.

a. If long-term unemployed and dislocated workers are part of the target group, then the project design includes workforce development services designed to move them into permanent employment.

b. If workforce development services are included in the project design, then:

(1) The planned average cost per participant for the project is within a reasonable range of the state's actual average cost per participant reported for the prior Program Year.

(2) The percentage of planned participants receiving needs-related payments (NRPs) in the project is justified in terms of formula program experience or target group characteristics and reemployment barriers.

c. The indirect costs are justified by identification of: (1) The approved indirect cost rate and base; (2) the cognizant approval agency; (3) the date of the approval.

d. “Other” expenditures that are included in the budget—at either the State or local level—are identified and justified in the narrative.

e. Total administrative costs are within the cost limitation, or are explained and justified.

3. Timeliness of Assistance: To ensure that project implementation will reflect timely response to the emergency situation.

a. All planned temporary jobs are filled within the first three quarters of project operation.

b. Information indicates that participants are completing temporary jobs prior to substantially undertaking workforce development activities.

4. Adequacy of Planned Performance: For participants receiving workforce development services, to verify that planned performance on NEG projects appropriate.

a. The planned levels of performance on each applicable performance measure equal to or greater than the higher of the negotiated state goal or the Secretary's goal, or

b. The application includes specific employment barriers-related information on the project's target group to justify a lower level of performance.

5. Need for Funds: To ensure that other funds are not available and/or have not been committed to meet the needs of the workers covered in the application.

a. There are no other NEG disaster projects in the state that are underexpended according to their approved Implementation Plan and where the funds could be redirected to this project.

C. Dual Enrollment Projects

1. Eligibility: To ensure that NEG funds are only awarded to eligible dislocation events and where there is a verifiable target group that is both eligible and in need of assistance.

a. TAA certifications and/or other appropriate documentation to demonstrate eligibility is provided in the application or can be accessed from other sources in DOL/ETA.

2. Reasonableness of Proposed Services and Costs: To ensure that NEG projects are designed and operated in accordance with the applicable Federal requirements and the State and local policies in the proposed project area.

a. The average cost per participant for the project is within a reasonable range of the state's actual average cost per participant reported for the prior Program Year.

b. The indirect costs are justified by identifying: (1) The approved indirect cost rate and base; (2) the cognizant approval agency; (3) the date of the approval.

c. “Other” expenditures that are included in the budget—at either the State or local level—are identified and justified in the narrative.

d. Total administrative costs are within the cost limitation, OR are explained and justified.

3. Adequacy of Planned Performance: to verify that planned performance on NEG projects appropriate.

a. The planned levels of performance on each applicable performance measure equal to or greater than the higher of the negotiated state goal or the Secretary's goal, or

b. The application includes specific employment barriers-related information on the project's target group to justify a lower level of performance.

4. Need for Funds: To ensure that other funds are not available and/or have not been committed to meet the needs of the workers covered in the application.

a. No other funding exists which provides the same services to the same target group.

b. A state verification of the need for the requested funds is provided.

c. Available information on expenditures of other dislocated worker funds, including Trade Act funds, in the state indicates the need for the requested funds.

D. Health Coverage Assistance Projects

1. Eligibility: To ensure that NEG funds are only awarded to provide health coverage assistance and supportive services to eligible trade-impacted workers and other eligible individuals, as specified in the Trade Adjustment Assistance Reform Act of 2002.

a. TAA certifications and/or other appropriate documentation to demonstrate eligibility is either provided in the application or can be accessed from other sources in DOL/ETA.

2. Reasonableness of Proposed Services and Costs: To ensure that NEG funds are utilized in a manner consistent with the Federal requirements and the State and local policies that apply to trade assistance programs in the proposed project area.

a. The indirect costs are justified by identifying: (1) The approved indirect cost rate and base; (2) the cognizant approval agency; (3) the date of the approval.

b. “Other” expenditures that are included in the budget are identified and justified in the narrative.

c. Total administrative costs, exclusive of health coverage payment processing costs, are within the cost limitation, OR are explained and justified.

d. The basis for administrative costs to process health coverage payments is justified.

Part VI: Funding Approaches

Applications for NEG funds can be funded in whole or in part. Full or partial funding can be at the applicant's request or at the Secretary's discretion. The applicant may request partial funding when the dislocation event is an emergency (i.e., regular projects where there was no advance notification of the layoffs, or any disaster projects) and there is insufficient time to develop an appropriate estimate of the amount of funding that will be needed to respond to the event. In cases where the applicant requests partial funding, the applicant should only request a partial amount of project funding needed in the initial application. After the project design uncertainties have been resolved and the initial partial funding application has been approved, the applicant must complete a new application for the remaining amount of project funding needed.

Where the applicant is submitting a partial funding request due to an emergency situation, the application must be submitted within 15 calendar days of the emergency, unless logistical barriers (e.g., damaged communication systems resulting from a natural disaster) prevent submission within this timeframe.

The following minimum submission requirements shall apply to a partial funding request:

For Regular Projects

—SF 424;

—Project Synopsis Form (ETA 9106) (entries are not required for Planned Cost per Participant, Planned Entered Employment Rate, Planned Wage Replacement Rate and Project Operator Listing);

—Employer Data Form (ETA 9105).

For Disaster Projects

—SF 424;

—Project Synopsis Form (ETA 9106) (entries are not required for Planned Cost per Participant, Planned Entered Employment Rate, Planned Wage Replacement Rate and Project Operator Listing).

As noted previously, most NEG grant awards will be funded incrementally at the Secretary's discretion, with the multiple disbursements of funds all based on the single application. In these cases, a maximum funding level will be approved by the Secretary, but a lesser amount will be initially awarded. The grantee will be required to submit, at a later date, supplemental information in order to request the balance of funds. This information will be specified in the grant award letter, but will include, at a minimum, current information on actual participant levels, performance outcomes, and expenditures.

Part VII: Post-Grant Award Requirements

A. Follow-Up Planning Requirements

Recipients of a NEG will be required to develop a more complete project operational plan as follow-up to the grant award. This plan should be completed within 90 days of grant award and be available for review at the office of the grant recipient. The information in this plan will be used to verify the feasibility of the project design and planned levels of performance based on actual project implementation experience. The content of the plan will vary by type of project but, in general, will need to address factors such as status of Rapid Response activities (for Regular projects), participant enrollments, needs of participants for specific services, implementation schedules, project operator agreements and budgets, and project management and staffing structure.

B. Project Oversight

In addition to the review of the Project Operational Plan, each project will be reviewed at the project midpoint. The purpose of this review will be to verify core compliance factors such as participant eligibility and adequate financial management, assess the effectiveness of participant service policies and processes in achieving project performance goals, and evaluate the need for funds to complete the project.

C. Project Performance Reporting

Each grant recipient will be required to submit to the Grant Officer a Quarterly Report Form (ETA 9104) on actual performance to-date. The report will include the same factors as the Cumulative Quarterly Planning Form (ETA 9103) in the grant document. A copy of this form is included in Appendix A.

Part VIII: Grant Modifications

Grant modifications will be required in the following circumstances:

—To increase or change the approved Project Operators.

—When end-of-project performance is expected to vary by more than 10% from the approved plan regarding: Total participants, participants to be enrolled in training, or expenditures for training.

—To increase the number of participants receiving NRPs/health coverage assistance and/or the amount of expenditures for NRPs/health coverage assistance.

—To increase the approved amounts of administrative costs.

—To change the performance period for the project.

—When actual end-of-project expenditures will be less than the amount of awarded funds.

Grant modifications must be submitted to the Grant Officer. They must be submitted electronically.

Grant modifications will not be accepted within 90 days prior to the scheduled expiration date of the project.

Where there is a need to increase the amount of approved funding a new application for NEG funds must be submitted. To expand the layoff dates, and number of eligible workers, at a dislocation site already included in the approved grant without increasing the amount of approved funding, the grantee may submit a modification that would include additional Employer Data Form(s) for the applicable layoffs and, if needed, a revised Planning Form. A new application is required for the addition of new dislocation sites and target groups of eligible workers.

BILLING CODE 4510-30-P

[FR Doc. 03-12248 Filed 5-15-03; 8:45 am]

BILLING CODE 4510-30-C